DEPARTMENT OF JUSTICE

Antitrust Division

Notice Pursuant to the National Cooperative Research and Production Act of 1993—Telemanagement Forum

Notice is hereby given that, on January 29, 2016, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, the following parties have been added as members to this venture: Bristol is Open, Bristol, UNITED KINGDOM; City of Atlanta, Atlanta, GA; Cominfo Consulting Group Ltd., Moscow, RUSSIA; drop D, Quito, ECUADOR; Eandis, Brusselsesteenweg Melle, BELGIUM; Ecole De Technologie Supérieure (ETS), Montréal, CANADA; Enable, Addington, NEW ZEALAND; Enxoo Sp. z o.o., Warsaw, POLAND; Fraunhofer IAIS, Sankt Augustin, GERMANY; Galileo Software, Carrigtohill, IRELAND; Guangzhou wowotech Co., Ltd., Guangzhou, PEOPLE'S REPUBLIC OF CHINA; HeyStaks, Dublin, IRELAND; Hitachi Data Systems, Santa Clara, CA; Integrated Architectures, LLC, Medway, MA; Intent HQ, London, UNITED KINGDOM; IntJoors Holding AB, Stockholm, SWEDEN; IS Communications Ltd., Bexleyheath, UNITED KINGDOM; Lisbon City Council, Lisbon, PORTUGAL; Maestracom, Nice, FRANCE; Mediaan/abs bv, Heerlen, NETHERLANDS; MHP Americas Inc., Atlanta, GA; Millicom Tigo Bolivia, Santa Cruz, BOLIVIA; Now New Zealand Limited, Onekawa, NEW ZEALAND; NTS New Technology Systems GmbH, Wilhering, AUSTRIA; Pontificia Universidade Catolica de Campinas, Campinas, BRAZIL; POWERACT Consulting, Casablanca, MOROCCO; Sauerborn Management Consulting GmbH, Ueken, SWITZERLAND; Smart Assistant, Vienna, AUSTRIA; Smart Dublin, Dublin, IRELAND; Smart Metropolis, Paris, FRANCE; sse Enterprise Telecoms, Reading, UNITED KINGDOM; Symsoft AB Solutions, Stockholm, SWEDEN; TataSky Ltd., Mumbai, INDIA; Telecom Business Transformers Holding BV, Dordrecht, NETHERLANDS; Telefonica Mexico, Cruz Manca, MEXICO; Telenor Sverige, Karlskrona, SWEDEN; Trisotech, Montreal, CANADA; Tupl, Inc., Snoqualmie, WA; and WSO2.Telco, Colombo, SRI LANKA.

Also, the following members have changed their names: PT Indosat Tbk to Indosat Ooredoo, Jakarta Pusat, INDONESIA; Indosat to Ooredoo Myanmar, Yangon, MYANMAR; Nawras to Ooredoo Oman, Muscat, OMAN; Wataniya Télécom Algérie S.P.A to Ooredoo Algeria, Alger, ALGERIA; Ooredoo Q.S.C. to Ooredoo Group, Doha, QATAR; Porte Alegre to Prefeitura Municipal de Porto Alegre, Rio Grande do Sul, BRAZIL; and Comverse to Xura, Raanana, ISRAEL.

In addition, the following parties have withdrawn as parties to this venture: 4GOSS, Quebec, CANADA; ABIS & Associates, Chessington, UNITED KINGDOM; Allscripts Healthcare Solutions, Inc., Chicago, IL; Amcom Telecommunications Ltd., Perth, AUSTRALIA; AMT Group, Moscow, RUSSIA; Archimu, Heverlee, BELGIUM; ARRIS Group, Inc., Suwanee, GA; AssuringBusiness Pte Ltd., Singapore, SINGAPORE; Austen Consultancy Services Ltd., Hemel Hempstead, UNITED KINGDOM; BINARY OSS, Santiago, CHILE; Bromium, Cupertino, CA; CBOSS, Moscow, RUSSIA; Cloud Perspectives (a Woodward Systems Inc Company), Nepean, CANADA; Cyan Optics, Petaluma, CA; DANATEQ PTE. LTD., Singapore, SINGAPORE; DataProbity, Stuart, FL; Endace Measurement Systems Ltd., Sydney, AUSTRALIA; Factdelta, Swansea, UNITED KINGDOM; FirstNet, Reston, VA; Front Porch, Inc., Sonora, CA; GIP AG, Mainz, GERMANY; Inabox Group Limited, Sydney, AUSTRALIA; IT SERVICES & GOUVERNANCE, Paris, FRANCE; Johns Hopkins University Applied Physics Lab, Laurel, MD; Mastercom TechServices Pvt Ltd., Bangalore, INDIA; Mediaan/abs bv, Heerlen, NETHERLANDS; mm1 Consulting & Management PartG, Stuttgart, GERMANY; Mobius Wireless Solutions Ltd., Shanghai, PEOPLE'S REPUBLIC OF CHINA; ms-CNS Communication Network Solutions GmbH, Vienna, AUSTRIA; New Generation Management Consulting Pty Ltd., Johannesburg, SOUTH AFRICA; NISZ Zrt. (Nemzeto Infokommunikacios Szolgaltato Zrt.), Budapest, HUNGARY; Nomos Software, Cork, IRELAND; North State Communications, High Point, NC; OJSC Rostelecom, Moscow, RUSSIA; Onesto Services Oy, Jyvaskyla, FINLAND; Orga Systems GmbH, Paderborn, GERMANY; Pelatro, Bangalore, INDIA; Photronics, Brookfield, CT; Pinger, San Jose, CA; Plug and Play Tech Center, Sunnyvale, CA; Portugal Telecom Inovacao, SA, Aveiro, PORTUGAL; PT Comunicacoes, Lisbon, PORTUGAL; PT Indonesia Comnets Plus (ICON+), Jakarta, INDONESIA; PT Tricada Intronik, Bandung, INDONESIA; SAPO (PT Comunicacoes), Lisbon, PORTUGAL; SK Regional Services Pte Ltd., Kuala Lumpur, MALAYSIA; Solidi Pte Ltd., Singapore, SINGAPORE; SpiderCloud Wireless, San Jose, CA; Splunk, San Francisco, CA; Stelligence Co. LTD, Bangkok, THAILAND; Tektronix Communications, Plano, TX; Telekom Networks Malawi Ltd., Blantyre, MALAWI; The Open Group, San Francisco, CA; TIM BRASIL, Tijuca, BRAZIL; Transmode Systems AB, Stockholm, SWEDEN; United Telecommunication Services, Willemstad, NETHERLANDS; University of Deusto—Deusto Technology Foundation, Bilbao, SPAIN; Vision Consulting Turkey, İstanbul, TURKEY; VIVA—Kuwait Telecommunications Company, Salmiya, KUWAIT; Vodafone India Limited, Mumbai, INDIA; and Vulliens Group snc, Lausanne, SWITZERLAND.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on October 8, 2015. A notice was published in the Federal Register pursuant to Section 6(b) of the Act on November 16, 2015 (80 FR 70836).

Patricia A. Brink,
Director of Civil Enforcement, Antitrust Division.

[FR Doc. 2016-05296 Filed 3-8-16; 8:45 am]

BILLING CODE P